PEACE CORPS

Proposed Information Collection Renewals

ACTION: Submission for Office of Management and Budget (OMB) review; comment request.

SUMMARY: The Peace Corps has submitted the following three (3) information collections to the Office of Management and Budget (OMB) for extension under the provisions of the Paperwork Reduction Act of 1995. This notice invites the public to comment on the renewal of three information collections: World Wise Schools Conference Online Registration Form (OMB 0420-0541); Speakers Match: Online Request for a Speaker Form (OMB 0420-0539); and Correspondence Match Educator Online Enrollment Form: Educator Sign Up Form (OMB 0420-0540). Peace Corps invites comments on whether the proposed collection of information is necessary for proper performance of the functions of the Peace Corps, including whether the information will have practical use; the accuracy of the agency's estimate of the burden of the proposed collection of information, including the validity of the information to be collected; and ways to minimize the burden of the collection of information on those who are to respond, including through the use of automated collection techniques, when appropriate, and other forms of information technology.

DATES: Comments regarding this collection must be received on or before January 31, 2011.

ADDRESSES: Interested persons are invited to submit comments regarding this proposal. Comments should refer to the proposal by name/or OMB approval number and should be sent via e-mail to: oira_submission@omb.eop.gov or fax to: 202-395-3086. Attention: Desk Officer for Peace Corps.

FOR FURTHER INFORMATION CONTACT: Denora Miller, FOJA Officer, Peace Corps, 1111 20th Street, NW., Washington, DC 20526, (202) 692-1236, or e-mail at pcfr@peacecorps.gov. Copies of available documents submitted to OMB may be obtained from Denora Miller.

SUPPLEMENTARY INFORMATION: Proposal to renew the following three (3) information collections currently approved collection of information:

1. Title: World Wise Schools Conference—Online Registration Form.

OMB Control Number: 0420-0541.

Type of Review: Regular—extension, without change, currently approved collection.

Respondents: Educators and employees of local governmental and nongovernmental organizations interested in promoting global education in the classroom.

Estimated annual number of respondents: 300.

Estimated average time to respond: 10 minutes.

Frequency of response: Annually.

Estimated total annual burden hours: 50 hours.

Purpose of collection: The information collected is used to officially register attendees to the annual World Wise Schools Conference. The information is used as a record of attendance.

2. Title: Speakers Match: Online Request for a Speaker Form.

OMB Control Number: 0420-0539.

Type of Review: Regular—extension, without change, currently approved collection.

Respondents: Educators interested in promoting global education in the classroom.

Estimated annual number of responses: 300.

Estimated average time to respond: 10 minutes.

Frequency of response: Annually.

Estimated annual burden hours: 50 hours.

Purpose of collection: The information collected is used to make suitable matches between the educators and returned Peace Corps Volunteers for the Speakers Match program.

3. Title: Correspondence Match Educator Online Enrollment Form: Educator Sign Up Form.

OMB Control Number: 0420-0540.

Type of Review: Regular—extension, without change, currently approved collection.

Respondents: Educators interested in promoting global education in the classroom.

Estimated annual number of responses: 10,000.

Estimated average time to respond: 10 minutes.

Frequency of response: Annually.

Estimated annual burden hours: 1,667 hours.

Purpose of collection: The information collected is used to make suitable matches between the educators and currently serving Peace Corps Volunteers.

Dated: December 23, 2010.
Garry W. Stanberry,
Deputy Associate Director for Management.

[FR Doc. 2010-32913 Filed 12-29-10; 8:45 am]

BILLING CODE 6051-01-M